DEPARTMENT OF VETERANS AFFAIRS

Voluntary Services National Advisory Committee, Notice of Meeting

The Department of Veterans Affairs gives notice under Public Law 92-463 (Federal Advisory Committee Act) that the annual meeting of the Department of Veterans Affairs Voluntary Service (VAVS) National Advisory Committee (NAC) will be held on May 25-28, 2005, at the Doubletree Paradise Valley Resort, 5401 North Scottsdale Road, Scottsdale, Arizona. The meeting sessions are scheduled from 6 p.m. until 8 p.m. on May 25; from 8:30 a.m. until 3 p.m. on May 26 and 27; and from 8:30 a.m. until 2 p.m. on May 28, with a closing program at 6 p.m. that day. The meeting is open to the public.

The Committee, comprised of sixty-three national voluntary organizations advises the Secretary, through the Under Secretary for Health, on the coordination and promotion of volunteer activities within VA health care facilities. The primary purposes of this meeting are: To provide for committee review of volunteer policies and procedures; to accommodate full and open communications between the organizations, representatives and the Voluntary Service Office and field staff; to provide educational opportunities geared towards improving volunteer programs with special emphasis on methods to recruit, retain, motivate and recognize volunteers; and to approve committee recommendations.

The May 25 session will involve opening ceremonies and remarks by several VA and local officials. The May 26 session will feature a video presentation from Dr. Perlin, a Voluntary Service Report, and recognition of the recipients of the VAVS Award for Excellence and NAC Volunters of the Year. In addition, the James H. Parks Memorial Scholarship Luncheon will be held to honor an outstanding youth volunteer. The following educational workshops are scheduled:

1. Assignment-Driven Recruitment and Retention: It's All in the Packaging

2. My HealtheVet

3. Hospice Care-A Celebration of Life

4. The Family Support in Seamless Transition

On May 27, the business session will include subcommittee reports and presentations on the Fisher House and Seamless Transition. This session will be followed by a repeat of the educational workshops.

The May 28 session will include remarks from the Director, Veterans Canteen Service and Mr. Stephen Gower, a motivational speaker. The evening will conclude with a Volunteer Recognition Dinner, with entertainment provided by winners in the National Veterans Creative Arts Program.

No time will be allocated at this meeting for receiving oral presentations from the public. However, interested persons may either attend or file statements with the Committee. Written statements may be filed either before the meeting of within 10 days after the meeting and addressed to: Ms. Laura Balun, Administrative Officer, Voluntary Service Office (10C2), Department of Veterans Affairs, 810 Vermont Avenue, NW., Washington, DC 20420. Individuals interested in attending are encouraged to contact Ms. Balun at (202) 273-8952.

Dated: April 12, 2005.
By direction of the Secretary.
E. Philip Riggin,
Committee Management Officer.

[FR Doc. 05-7984 Filed 4-20-05; 8:45 am]

BILLING CODE 8320-01-M